DEPARTMENT OF AGRICULTURE

Food and Nutrition Service

Agency Information Collection Activities: Supplemental Nutrition Assistance Program Forms: Applications, Periodic Reporting, and Notices

AGENCY: Food and Nutrition Service (FNS), USDA.

ACTION: Notice.

SUMMARY: In accordance with the Paperwork Reduction Act of 1995, this notice invites the general public and other public agencies to comment on the proposed information collection. This is a revision of the currently approved collection for the applications, periodic reporting, and notices burden calculations for the Supplemental Nutrition Assistance Program (SNAP).

DATES: Written comments must be received on or before August 9, 2021.

• Preferred Method: Federal eRulemaking Portal. Go to http://www.regulations.gov, and follow the online instructions for submitting comments electronically.

• Mail: Send comments to Certification Policy Branch, Program Development Division, FNS, 1320 Braddock Place, Alexandria, VA 22314.

All responses to this notice will be summarized and included in the request for Office of Management and Budget (OMB) approval. All comments will be a matter of public record.

FOR FURTHER INFORMATION CONTACT: Requests for additional information or copies of this information collection should be directed to the Certification Policy Branch, Program Development Division, FNS, 1320 Braddock Place, Alexandria, VA 22314 or via email to SNAPCPBRules@usda.gov.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Supplemental Nutrition Assistance Program Forms: Applications, Periodic Reporting, and Notices.

Form Number: None.

OMB Number: 0584-0064.

Expiration Date: December 31, 2020.

Type of Request: Revision of a currently approved collection.

Abstract: Under Section 11(e)(8) of the Food and Nutrition Act of and 2008 (“the Act”) and 7 CFR 272.1(c)(4), SNAP State agencies (“State agencies”) are limited in the use or disclosure of information obtained from SNAP application forms or contained in case files of participating SNAP households to certain persons, specifically those directly connected with:

• The administration of SNAP;

• The administration of other Federal or Federally assisted means-tested programs;

• The verification of immigration status of aliens;

• The Office of the Comptroller General of the U.S. for audit and examination authorized by any other provisions of law;

• Local, State, or Federal law enforcement for the purpose of investigating an alleged violation of the Act or SNAP regulations;

• Local, State, or Federal law enforcement for the purpose of investigating if a household member is a fleeing felon or a parole violator; and

• Agencies of the Federal Government for the purposes of collecting the amount of an over issuance from Federal pay.

While working on the renewal of this collection, which is currently under review with OMB, FNS identified that these activities (which we will refer to simply as “third-party disclosures”) were not previously included in this collection. Due to unprecedented workload as a result of COVID-19 and due to the outstanding need to adequately research and estimate the burden of SNAP third-party disclosure requirements on State agencies, FNS was unable to include this activity with the original renewal request submitted to OMB prior to its original expiration date. Through this notice, FNS intends to initiate a resolution of this discrepancy by addressing SNAP third-party reporting requirements in a revision of this collection. FNS will continue to refine these estimates through a continuous review and improvement cycle with the FNS Privacy Officer that may result in additional revisions in future renewals. In an effort to formulate accurate burden estimates for third-party reporting requirements, FNS consulted with six State agencies prior to drafting this notice. The estimates below incorporate feedback we received from those State agencies.

FNS estimates that each of the 53 SNAP State agencies may receive as many as 36 requests for household data disclosure annually by entities entitled to that information under Federal law.

One example of a third-party disclosure request is law enforcement officials requesting information regarding a fleeing felon. Per 7 CFR 273.11(n), upon written request, State agencies must disclose to law enforcement officers acting in their official capacity, the address, social security number, and, if available, photograph of the household member, if that household member is a fleeing felon.

The time needed to fulfill a third-party request for information is approximately 0.5 hours (30 minutes). The time accounted for includes 0.0835 hours (5 minutes) to read and review the request, 0.25 hours (15 minutes) to find the related information from their caseloads and research the request, and 0.167 hours (10 minutes) to draft and send the information to the third-party via email or mail.

Another third-party request may be received from a university for research purposes. These written requests for data should support Program research and evaluation. Disclosure requests for research purposes are allowable, as long as they are directly related to the administration of SNAP per Section 11(e)(8) of the Act. Additional cooperation by State agencies, local agencies, institutions, facilities and contractor's participation in programs authorized under the Act are required by section 17(k)(5) of the Act.

The time needed to fulfill a third-party request for information is approximately 0.5 hours (30 minutes). The time accounted for includes 0.0835 hours (5 minutes) to read and review the request, 0.25 hours (15 minutes) to find the related information from their caseloads and research the request, and 0.167 hours (10 minutes) to draft and send the information to the third-party via email or mail.

The current burden for this collection is 124,187,297 annual burden hours. Considering the burden adjustments made due to third-party disclosure requirements not delineated in previous burden tables, FNS calculates the revised total burden for this collection is 124,188,251 annual burden hours which reflects an increase of 954 burden hours due to program changes and adjustments. The total burden is summarized below.

Affected Public: State agencies that administer SNAP (SNAP State agencies).

Estimated Number of Respondents: 53 SNAP State agencies.

Estimated Number of Responses per Respondent: 36 responses per State SNAP agency.

Estimated Total Annual Responses: 1,908.

Estimated Time per Response: 30 minutes (0.5 hours) per response.

Estimated Total Annual Burden on Respondents: 954 hours (1,908 annual responses multiplied by 0.5 hours per response).

| Respondent | Estimated number of respondents | Average estimated number responses | Estimated total annual responses | Estimated avg. number of hours per response | Estimated total annual hours
New Request—Third Party Reporting | State SNAP Agencies—Third-party Disclosures under 7 CFR 272.1(c)(4) | 53 | 36 | 1,908 | 0.5 | 954
Currently Approved Reporting and Recordkeeping Burden, 0584-0064 | All Affected Public (State Agencies, Individuals/households) | 19,701,777 | 47.60 | 937,793,284.93 | 0.13 | 124,187,297
Total Estimated Burden for 0584-0064 |  | 19,701,777 | 47.59 | 937,795,192.93 | 0.13 | 124,188,251

Cynthia Long,
Acting Administrator, Food and Nutrition Service.

[FR Doc. 2021-12143 Filed 6-9-21; 8:45 am]

BILLING CODE 3410-30-P